DEPARTMENT OF THE INTERIOR

Office of Surface Mining Reclamation and Enforcement

30 CFR Part 924

[Docket No. MS-021-FOR]

Mississippi Abandoned Mine Land Reclamation Plan

AGENCY: Office of Surface Mining Reclamation and Enforcement, Interior.

ACTION: Final rule; approval of abandoned mine land reclamation plan.

SUMMARY: We, the Office of Surface Mining Reclamation and Enforcement (OSM), are approving Mississippi's abandoned mine land reclamation plan (Mississippi Plan) submitted to us under the Surface Mining Control and Reclamation Act of 1977 (SMCRA or the Act). The purpose of the plan is to demonstrate the State's intent and capability to assume responsibility for administering the abandoned mine land reclamation (AML) program established by Title IV of SMCRA. As part of the plan, Mississippi submitted policies and procedures to be followed in conducting reclamation of abandoned coal mine lands in Mississippi. These policies and procedures, along with the State's AML statutes that we approved on August 25, 2006, constitute the complete Mississippi plan.

DATES: Effective Date: September 27, 2007.

FOR FURTHER INFORMATION CONTACT: Sherry Wilson, Director, Birmingham Field Office. Telephone: (205) 290-7282. E-mail: swilson@osmre.gov.

SUPPLEMENTARY INFORMATION:

I. Background on the AML Program and Mississippi's Plan

II. Submission of the Mississippi Plan Policies and Procedures

III. OSM's Findings

IV. Summary and Disposition of Comments

V. OSM's Decision

VI. Procedural Determinations

I. Background on the AML Program and Mississippi's Plan

The AML Program was established by Title IV of the Act (30 U.S.C. 1201 et seq.) in response to concerns over extensive environmental damage caused by past coal mining activities. The program is funded by a reclamation fee collected on each ton of coal that is produced. The money collected is used to finance the reclamation of abandoned coal mines and for other authorized activities. Section 405 of the Act allows States and Indian Tribes to assume exclusive responsibility for reclamation activity within the State or on Indian lands. In order to assume this responsibility, the States or Indian Tribes must develop and submit to the Secretary of the Interior (Secretary) for approval, a program (often referred to as a plan) for the reclamation of abandoned coal mines. The Federal regulations at 30 CFR part 884 specify the content requirements of the State reclamation plan and the criteria for plan approval. Under these regulations, the Director of the Office of Surface Mining Reclamation and Enforcement is required to review the plan and solicit and consider comments of other Federal agencies and the public. If the State plan is not approved, the State may submit a revised reclamation plan at any time. If the Secretary determines that a State has developed and submitted a program for the reclamation of abandoned mine lands and has the ability and necessary State legislation to implement the provisions of Title IV, the Secretary may approve the State program and grant to the State exclusive authority to implement the provisions of the approved program. The Mississippi Plan can be approved if:

1. The public has been given adequate notice and opportunity to comment and the record does not reflect major unresolved controversies.

2. The views of other Federal agencies have been solicited and considered.

3. The State has the legal authority, policies, and administrative structure to carry out the plan.

4. The plan meets all the requirements of our AML program provisions.

5. The State has an approved regulatory program.

6. The plan is in compliance with all applicable State and Federal laws and regulations.

Upon approval of the State reclamation plan, the State may submit to us on an annual basis an application for funds to be expended in that State on specific reclamation projects which are necessary to implement the State's reclamation plan as approved. Such annual requests are reviewed and approved by us in compliance with the requirements of 30 CFR Part 886.

By letter dated April 5, 2006 (Administrative Record No. MS-0402), Mississippi sent us its AML plan statutes. Mississippi revised and added statutes to the Mississippi Surface Coal Mining and Reclamation Law at Sections 53-9-3, 53-9-7, 53-9-89, 53-9-89(1)(c), 53-9-89(1)(c)(i) through (v), 53-9-101, 53-9-103, 53-9-105, 53-9-107, 53-9-109, 53-9-111, 53-9-113, 53-9-115, 53-9-117, 53-9-119, 53-9-121, 53-9-123. We approved Mississippi's revised and added statutes on August 25, 2006, thereby, granting partial approval of its AML plan (71 FR 50339).

Mississippi's current AML plan submission addresses the policies and procedures the State will follow in administering the Mississippi Plan.

II. Submission of the Mississippi Plan Policies and Procedures

By letter dated June 11, 2007 (Administrative Record Nos. MS-0417-01 through MS-0417-06), and at its own initiative, Mississippi sent us the proposed policies and procedures of the Mississippi Plan under SMCRA (30 U.S.C. 1201 et seq.).

We announced receipt of the submission in the July 24, 2007, Federal Register (72 FR 40266). In the same document, we opened the public comment period and provided an opportunity for a public hearing or meeting on the adequacy of the plan. The public comment period closed on August 23, 2007. Because no one requested a public hearing or meeting, we did not hold one. We received comments from one Federal and one State agency.

III. OSM's Findings

1. In accordance with section 405 of SMCRA and the Federal regulations at 30 CFR 884.14, we find that Mississippi has submitted a plan for reclamation of abandoned mine lands and we have determined that:

(a) The public has been given adequate notice and opportunity to comment and the record does not reflect any unresolved controversies.

(b) The views of other Federal agencies having an interest in the plan have been solicited and considered. These agencies include the U.S. Forest Service, the U.S. Fish and Wild Life Services, the U.S. Environmental Protection Agency, the U.S. Army Corps of Engineers, the Advisory Council on Historic Preservation, the Bureau of Land Management, the National Park Service, the Natural Resources Conservation Service, and the Mine Safety and Health Administration.

(c) The Mississippi Department of Environmental Quality, Office of Geology has the legal authority, policies, and administrative structure to implement the plan.

(d) The Mississippi Plan meets all the requirements of 30 CFR Chapter VII, Subchapter R.

(e) Mississippi has an approved State regulatory program under Title V of SMCRA.

(g) The Mississippi Plan is in compliance with all applicable State and Federal laws and regulations.

IV. Summary and Disposition of Comments

Public Comments

We asked for public comments on the Mississippi Plan, but did not receive any.

Federal Agency Comments

On July 6, 2007, under 30 CFR 884.14(a)(2), we requested comments from various Federal agencies with an actual or potential interest in the Mississippi Plan (Administrative Record No. MS-0417-10). We received a comment from the U.S. Forest Service stating that it had no comments (Administrative Record No. MS-0417-16). We also received a comment from the Mississippi Department of Archives and History stating that Mississippi's proposed reclamation plan will have no effect on cultural resources (Administrative Record No. MS-0417-17).

V. OSM's Decision

Based on the above findings, we approve the Mississippi Plan policies and procedures sent to us on June 11, 2007, and as revised on July 31, 2007. Furthermore, this approval, together with our approval of Mississippi's AML statutes on August 25, 2006 (71 FR 50339), constitute the final and full approval of the Mississippi Plan.

To implement this decision, we are amending the Federal regulations at 30 CFR part 924, which codify decisions concerning the Mississippi program. We find that good cause exists under 5 U.S.C. 553(d)(3) to make this final rule effective immediately. Section 503(a) of SMCRA requires that the State's program demonstrate that the State has the capability of carrying out the provisions of the Act and meeting its purposes. Making this rule effective immediately will expedite that process. SMCRA requires consistency of State and Federal standards.

VI. Procedural Determinations

Executive Order 12630—Takings

This rule does not have takings implications. This determination is based on the analysis performed for the counterpart Federal regulations.

Executive Order 12866—Regulatory Planning and Review

This rule is exempted from review by the Office of Management and Budget (OMB) under Executive Order 12866.

Executive Order 12988—Civil Justice Reform

The Department of the Interior has conducted the reviews required by section 3 of Executive Order 12988 and has determined that this rule meets the applicable standards of subsections (a) and (b) of that section. However, these standards are not applicable to the actual language of State regulatory programs and program amendments because each program is drafted and promulgated by a specific State, not by OSM. Under sections 503 and 505 of SMCRA (30 U.S.C. 1253 and 1255) and the Federal regulations at 30 CFR 730.11, 732.15, and 732.17(h)(10), decisions on proposed State regulatory programs and program amendments submitted by the States must be based solely on a determination of whether the submittal is consistent with SMCRA and its implementing Federal regulations and whether the other requirements of 30 CFR parts 730, 731, and 732 have been met.

Executive Order 13132—Federalism

This rule does not have Federalism implications. SMCRA delineates the roles of the Federal and State governments with regard to the regulation of surface coal mining and reclamation operations. One of the purposes of SMCRA is to “establish a nationwide program to protect society and the environment from the adverse effects of surface coal mining operations.” Section 503(a)(1) of SMCRA requires that State laws regulating surface coal mining and reclamation operations be “in accordance with” the requirements of SMCRA, and section 503(a)(7) requires that State programs contain rules and regulations “consistent with” regulations issued by the Secretary pursuant to SMCRA.

Executive Order 13175—Consultation and Coordination With Indian Tribal Governments

In accordance with Executive Order 13175, we have evaluated the potential effects of this rule on Federally-recognized Indian tribes and have determined that the rule does not have substantial direct effects on one or more Indian tribes, on the relationship between the Federal Government and Indian tribes, or on the distribution of power and responsibilities between the Federal Government and Indian tribes. This determination is based on the fact that the Mississippi program does not regulate coal exploration and surface coal mining and reclamation operations on Indian lands. Therefore, the Mississippi program has no effect on Federally-recognized Indian tribes.

Executive Order 13211—Regulations That Significantly Affect the Supply, Distribution, or Use of Energy

On May 18, 2001, the President issued Executive Order 13211 which requires agencies to prepare a Statement of Energy Effects for a rule that is (1) Considered significant under Executive Order 12866, and (2) likely to have a significant adverse effect on the supply, distribution, or use of energy. Because this rule is exempt from review under Executive Order 12866 and is not expected to have a significant adverse effect on the supply, distribution, or use of energy, a Statement of Energy Effects is not required.

National Environmental Policy Act

This rule does not require an environmental impact statement because section 702(d) of SMCRA (30 U.S.C. 1292(d)) provides that agency decisions on proposed State regulatory program provisions do not constitute major Federal actions within the meaning of section 102(2)(C) of the National Environmental Policy Act (42 U.S.C. 4332(2)(C)).

Paperwork Reduction Act

This rule does not contain information collection requirements that require approval by OMB under the Paperwork Reduction Act (44 U.S.C. 3507 et seq.).

Regulatory Flexibility Act

The Department of the Interior certifies that this rule will not have a significant economic impact on a substantial number of small entities under the Regulatory Flexibility Act (5 U.S.C. 601 et seq.). The State submittal, which is the subject of this rule, is based upon counterpart Federal regulations for which an economic analysis was prepared and certification made that such regulations would not have a significant economic effect upon a substantial number of small entities. In making the determination as to whether this rule would have a significant economic impact, the Department relied upon the data and assumptions for the counterpart Federal regulations.

Small Business Regulatory Enforcement Fairness Act

This rule is not a major rule under 5 U.S.C. 804(2), the Small Business Regulatory Enforcement Fairness Act. This rule: (a) Does not have an annual effect on the economy of $100 million; (b) Will not cause a major increase in costs or prices for consumers, individual industries, Federal, State, or local government agencies, or geographic regions; and (c) Does not have significant adverse effects on competition, employment, investment, productivity, innovation, or the ability of U.S.-based enterprises to compete with foreign-based enterprises. This determination is based upon the fact that the State submittal, which is the subject of this rule, is based upon counterpart Federal regulations for which an analysis was prepared and a determination made that the Federal regulation was not considered a major rule.

Unfunded Mandates

This rule will not impose an unfunded mandate on State, local, or tribal governments or the private sector of $100 million or more in any given year. This determination is based upon the fact that the State submittal, which is the subject of this rule, is based upon counterpart Federal regulations for which an analysis was prepared and a determination made that the Federal regulations did not impose an unfunded mandate.

List of Subjects in 30 CFR Part 924

Intergovernmental relations, Surface mining, Underground mining.

Dated: September 18, 2007.
Brent Wahlquist,
Director, Office of Surface Mining Reclamation and Enforcement.

For the reasons set out in the preamble, 30 CFR part 924 is amended as set forth below:

PART 924—MISSISSIPPI

1. The authority citation for part 924 continues to read as follows:

Authority: 30 U.S.C. 1201 et seq.

2. Section 924.20 is revised to read as follows:

§ 924.20 Approval of Mississippi abandoned mine land reclamation plans.

The Mississippi abandoned mine land reclamation plan as submitted on April 5, 2006, and June 11, 2007, and as revised is approved. Copies of the approved plan are available at:

Office of Surface Mining Reclamation and Enforcement, Birmingham Field Office, 135 Gemini Circle, Suite 215, Homewood, Alabama 35209

Mississippi Department of Environmental Quality, Office of Geology, 2380 Highway 80 West, Jackson, Mississippi 39289-1307

[FR Doc. E7-19147 Filed 9-26-07; 8:45 am]

BILLING CODE 4310-05-P